DEPARTMENT OF AGRICULTURE

Agricultural Marketing Service

[Docket No. DA-00-05]

United States Standards for Grades of Swiss Cheese, Emmentaler Cheese

AGENCY: Agricultural Marketing Service, USDA.

ACTION: Notice.

SUMMARY: The Agricultural Marketing Service (AMS) of the Department of Agriculture (USDA) is soliciting comments on proposals to change the voluntary United States Standards for Grades of Swiss Cheese, Emmentaler Cheese. AMS is proposing changes that would: (1) Increase the allowable eye size range in Grade A Swiss cheese and define an allowable eye size range for Grade B Swiss cheese; (2) remove the block height recommendation for cheeses produced in rindless blocks; (3) add more clarity to the color requirements for Grades A and B Swiss cheese; (4) correct minor errors that currently exist in the tables; and (5) make minor editorial changes that will make the standard more uniform in appearance and easier to use. These changes are being proposed to strengthen the standard by providing Swiss cheese characteristics that incorporate changes in consumer preferences and facilitate the use of automated portioning and packaging equipment. Editorial changes are also proposed to provide consistency with other dairy product standards.

DATES: Comments must be submitted on or before September 18, 2000.

ADDRESSES: Written comments may be submitted to Duane R. Spomer, Chief, Dairy Standardization Branch, Dairy Programs, Agricultural Marketing Service, U.S. Department of Agriculture, Room 2746, South Building, Stop 0230, P.O. Box 96456, Washington, DC 20090-6456; faxed to (202) 720-2643; or e-mailed to Duane.Spomer@usda.gov.

Comments should reference the date and page number of this issue of the Federal Register. All comments received will be made available for public inspection at the above address during regular business hours.

The current United States Standards, along with proposed changes, are available either through the above addresses or by accessing AMS” Home Page on the Internet at www.ams.usda.gov/dairystand.htm.

FOR FURTHER INFORMATION CONTACT: Charlsia Fortner, Dairy Products Marketing Specialist, Dairy Standardization Branch, AMS/USDA/Dairy Programs, Room 2746-S, P.O. Box 96956, Washington, DC, 20090-6456, (202) 720-7473.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices * * *.” AMS is committed to carrying out this authority in a manner that facilitates the marketing of agricultural commodities and will make copies of official standards available upon request. The United States Standards for Grades of Swiss Cheese, Emmentaler Cheese no longer appear in the Code of Federal Regulations but are maintained by USDA/AMS/Dairy Programs.

When Swiss cheese is officially graded, the USDA voluntary standards governing the grading of manufactured or processed dairy products are used. The Agency believes this proposal would accurately identify quality characteristics in Swiss cheese. AMS is proposing to change the United States Standards for Grades of Swiss Cheese, Emmentaler Cheese using the procedures that appear in part 36 of title 7 of the Code of Federal Regulations (7 CFR part 36).

The grade standards were last revised in September 1987. AMS has reviewed this standard and discussed possible changes with the dairy industry. The Wisconsin Dairy Products Association and the Wisconsin Cheese Makers Association, trade associations representing the Swiss cheese industry, provided specific recommendations.

Proposed by the Wisconsin Dairy Products Association and the Wisconsin Cheese Makers Association

The Wisconsin Dairy Products Association and the Wisconsin Cheese Maker's Association recommend changes to:

• Allow smaller eyes in Grade A Swiss cheese; and

• Remove block size recommendations for rindless Swiss cheese.

Proposed by Dairy Programs, Agricultural Marketing Service

• Lower the minimum eye size requirement for Grade A Swiss cheese as recommended by the Wisconsin Dairy Products Association and the Wisconsin Cheese Makers Association and include provisions to clarify uniformity of eye size. Also, Dairy Programs proposes to include the same eye size range for Grade B Swiss cheese;

• Remove the block height recommendation for rindless Swiss cheese as recommended by the Wisconsin Dairy Products Association and the Wisconsin Cheese Makers Association;

• Add a more descriptive representation of acceptable color for Grades A and B Swiss cheese by defining the range of acceptable color as white to light yellow;

• Correct errors in the table that summarizes eye and texture characteristics of Swiss cheese; and

• Reformat information in these standards to make the standards easier to use and provide a uniform appearance with other U.S. Grade Standards.

The Wisconsin Dairy Products Association and the Wisconsin Cheese Maker's Association have requested that the USDA revise Federal Swiss cheese grade standards to allow a smaller eye size and to remove cheese block size recommendations. Individuals representing a number of Swiss cheese manufacturers and buyers have also expressed strong support of these changes. Their suggested revisions, along with others identified by AMS, would increase the flexibility of the standard for use in satisfying consumer demands and promote consistency among USDA dairy product grade standards.

The current eye size requirement for Grade A Swiss cheese specifies that a majority of the eyes shall be between 11/16 and 13/16 of an inch in diameter. This is a very narrow range. While cheese makers are able to produce cheese with eyes in this range, the resulting product does not perform well on modern slicing equipment, and consumer preference points toward a smaller eye than the lower limit of 11/16 of an inch. The trade associations have suggested revising the lower limit of this eye size allowance to ⅜ of an inch. The Department agrees that this revision would result in Swiss cheese grade standards that more accurately reflect current marketing practices. The Department feels that uniformity of eye size is a measure of quality in Swiss cheese and therefore proposes to recognize the significance of uniformity of eye sizes within this larger range for Grade A Swiss cheese.

There are currently no eye size requirements for Grade B Swiss cheese under the established grading procedures. Eye size requirements for Grade B Swiss cheese do appear in the alternate grading procedures which are included as supplemental information to the standards. With the proposed expansion of the eye size range for Grade A Swiss, consideration of the eye size requirements for Grade B Swiss is appropriate. The Department feels that the larger range proposed for Grade A Swiss cheese should be relevant to Grade B Swiss as well. It is proposed that the same eye size requirements be included in standards for Grade B Swiss under all grading procedures; however, the additional provisions for uniformity of eye size would not be included in the Grade B requirements. The inclusion of the eye size range in the Grade B requirements would require 51 percent of the eyes of a Grade B Swiss cheese to fall within the range of ⅜ to 13/16 of an inch, with no further consideration as to uniformity.

The current standards recommend a block height for rindless blocks of Grades A and B Swiss cheese of between 6½ and 8½ inches. Swiss cheese manufacturers and buyers indicate that a need no longer exists for this block height requirement. Technology exists to make a high quality rindless Swiss cheese in a variety of block sizes, and they feel that the standard should not restrict the block sizes available. USDA agrees that the block height requirement for rindless Swiss cheese is no longer necessary, and proposes to remove it from these grade standards.

Additional color descriptors are proposed for Grades A and B Swiss cheese to provide greater clarity to those utilizing these grade standards. Swiss cheese color is largely dependent on the milk from which it is produced, more so than many other cheeses. Additionally, bleaching of milk for Swiss cheese manufacturing is allowed under the Food and Drug Administration's standards of identity for Swiss cheese (21 CFR 133.195). Current Grade A standards require Swiss cheese to present a natural, attractive and uniform color. USDA proposes to add a more descriptive representation of acceptable color by defining the range of acceptable color as white to light yellow. These color descriptors are proposed in an effort to provide consistent interpretation of the terms “natural” and “attractive” by users of these grade standards.

Five tables appear in these standards to provide an easy reference for Swiss cheese characteristics and their acceptable levels at each grade. One of these tables, “Classification of Eyes and Texture,” contains classification information that is not supported in the text of the standard. USDA proposes revisions to the “small-eyed” and “splits” table entries to provide consistency with the narrative portion of the standard.

This notice provides for a 60 day comment period for interested parties to comment on proposed revisions to the standards. The following is an outline of these changes.

United States Standards for Grades of Swiss Cheese, Emmentaler Cheese ¹
Current standard | Proposed | Discussion
Definitions | No change | N/A.
Swiss cheese, Emmentaler cheese | No change | N/A.
(a) For the purpose of this subpart, the words “Swiss” and “Emmentaler” are interchangeable | No change | N/A.
(b) Swiss cheese is cheese made by the Swiss process or by any other procedure which produces a finished cheese having the same physical and chemical properties as cheese produced by the Swiss process. It is prepared from milk and has holes, or eyes, developed throughout the cheese by microbiological activity. It contains not more than 41 percent of moisture, and its solids contain not less than 43 percent of milkfat. It is not less than 60 days old and conforms to the provisions of 21 CFR 133.195, “Cheese and Related Cheese Products,” Food and Drug Administration | No change | N/A.
Styles | No change | N/A.
(a) Rind. The cheese is completely covered by a rind sufficient to protect the interior of the cheese | No change | N/A.
(b) Rindless. The cheese is properly enclosed in a wrapper or covering which will not impart any objectionable flavor or color to the cheese. The wrapper or covering is sealed with a sufficient overlap or satisfactory closure to exclude air. The wrapper or covering is of sufficiently low permeability to water vapor and air so as to prevent the formation of a rind through contact with air during the curing and holding periods | No change | N/A.
U.S. Grades | No change | N/A.
Nomenclature of U.S. grades | No change | N/A.
The nomenclature of the U.S. grades is as follows: | No change | N/A.
(a) U.S. Grade A | No change | N/A.
(b) U.S. Grade B | No change | N/A.
(c) U.S. Grade C | No change | N/A.
Basis for determination of U.S. grades | No change | N/A.
(a) The determination of U.S. grades of Swiss cheese shall be on the basis of rating the following quality factors: | No change | N/A.
(1) Flavor | No change | N/A.
(2) Body | No change | N/A.
(3) Eyes and texture | No change | N/A.
(4) Finish and appearance, and | No change | N/A.
(5) Color | No change | N/A.
(b) The rating of each quality factor shall be established on the basis of characteristics present in a randomly selected sample representing a vat of cheese. In the case of institutional-size cuts, samples may be selected on a lot basis | No change | N/A.
(c) To determine flavor and body characteristics, the grader will examine a full trier plug of cheese withdrawn at the approximate center of one of the largest flat surface areas of the sample. For some institutional-size samples, it may not be possible to obtain a full trier plug. When this occurs, a U.S. grade may be determined from a smaller portion of a plug | No change | N/A.
(d) To determine eyes and texture as well as color characteristics, the wheel or block shall be divided approximately in half, exposing two cut surfaces, for examination. The exposed cut surfaces of institutional-size packages shall be used to determine eye and texture as well as color characteristics | No change | N/A.
(e) A U.S. grade may be assigned to institutional-size packages. In some instances, it may not be possible to obtain a full trier plug. When this occurs, a U.S. grade determination may be assigned on a smaller portion of a plug. The exposed cut surfaces of these size packages shall be used to determine eye and texture as well as color characteristics | Delete | We propose to delete this paragraph. Instructions for grading institutional sized packages of Swiss cheese is adequately addressed in paragraph (c) of this section.
(f) The final U.S. grade shall be established on the basis of the lowest rating of any one of the quality factors | (e) The final U.S. grade shall be established on the basis of the lowest rating of any one of the quality factors | We propose to redesignate this paragraph as (e) for editorial clarity.
Specifications for U.S. grades | No change | N/A.
(a) U.S. grade A. U.S. grade A Swiss cheese shall conform to the following requirements (See Tables I, II, III, IV, and V of this section): | No change | N/A.
(1) Flavor: Shall be a pleasing and desirable characteristic Swiss cheese flavor, consistent with the age of the cheese, and free from undesirable flavors | No change | N/A
(2) Body: Shall be uniform, firm, and smooth | No change | N/A.
(3) Eyes and texture: The cheese shall be properly set and shall possess well-developed round or slightly oval-shaped eyes which are uniformly distributed | (3) Eyes and texture: The cheese shall be properly set and shall possess well-developed round or slightly oval-shaped eyes which are relatively uniform in size and distribution | We propose to reword this description to include a provision for uniformity of eye size. Uniformity of eye size within the proposed larger range is necessary to address quality issues in Grade A Swiss cheese.
The majority of the eyes shall be 11/16 to 13/16 inch in diameter | The majority of the eyes shall be ⅜ to 13/16 inch in diameter | We propose to increase the allowable range of eye sizes for Grade A Swiss cheese to include eyes of a smaller diameter. This broadened range more accurately reflects current marketing practices.
The cheese may possess the following eye characteristics to a very slight degree: dull, rough, and shell; and the following texture characteristics to a very slight degree: checks and picks | The cheese may possess the following eye characteristics to a very slight degree: dull, rough, and shell; and the following texture characteristics to a very slight degree: checks, picks and streuble | We propose to revise this list of allowable defects to include very slight streuble. The change brings this paragraph into agreement with Table III of this standard.
(4) Finish and appearance—(i) Rind. The rind shall be sound, firm, and smooth, providing good protection to the cheese. The surface of the cheese may exhibit mold to a very slight degree. There shall be no indication that mold has penetrated into the interior of the cheese | No change | N/A.
(ii) Rindless. Rindless blocks of Swiss cheese should not be less than 6 ½ inches nor more than 8½ inches in height, reasonably uniform in size, and well shaped | (ii) Rindless. Rindless blocks of Swiss cheese should be reasonably uniform in size, and well shaped | We propose to remove recommendations for block heights of rindless Swiss cheese. Technological improvements have made it possible to produce quality Swiss cheese in a variety of sizes; therefore, these limitations are no longer necessary.
The wrapper or covering shall adequately and securely envelop the cheese, be neat, unbroken, and fully protect the surface of the cheese, but may be slightly wrinkled. The surface of the cheese may exhibit mold to a very slight degree. There shall be no indication that mold has penetrated into the interior of the cheese | No change | N/A.
(5) Color: Shall be natural, attractive, and uniform | (5) Color: Shall be natural, attractive, and uniform. The cheese shall be white to light yellow in color | We propose to include additional descriptors for color to provide greater clarity to those utilizing these grade standards. These descriptors are proposed to provide consistent interpretation of the terms natural and attractive.
(b) U.S. grade B. U.S. grade B Swiss cheese shall conform to the following requirements (See Tables I, II, III, IV, and V of this section): | No change | N/A.
(1) Flavor: Shall be a pleasing and desirable characteristic Swiss cheese flavor, consistent with the age of the cheese, and free from undesirable flavors. The cheese may possess the following flavors to a slight degree: acid, bitter, feed, flat, and utensil | No change | N/A
(2) Body: Shall be uniform, firm, and smooth. The cheese may possess a slight weak body | No change | N/A.
(3) Eyes and texture: The cheese shall possess well-developed round or slightly oval-shaped eyes | No change | N/A.
| The majority of the eyes shall be ⅜ to 11/16 inch in diameter | We propose to include the broadened eye size range in standards for Grade B Swiss cheese. This addition will promote consistency within the standards, since eye size requirements appear in the current Grade B standard under the alternate method for determining grades.
The cheese may possess the following eye characteristics to a very slight degree: dead eyes, nesty and small eyed; and the following to a slight degree: dull, frogmouth, one sided, overset, rough, shell, underset, and uneven | The cheese may possess the following eye characteristics to a very slight degree: dead eyes and nesty; and the following to a slight degree: dull, frogmouth, one sided, overset, rough, shell, underset, and uneven | We propose deleting the very slight level of the small eyed defect. The proposed lower eye size requirement is ⅜ of an inch. Definitions of small eyed at both the very slight and slight levels are not necessary to determine product grades given this narrow margin between acceptable eyes and blind Swiss cheese.
The cheese may possess the following texture characteristics to a slight degree: checks, picks and streuble | No change | N/A.
(4) Finish and appearance—(i) Rind. The rind shall be sound, firm, and smooth; providing good protection to the cheese. The cheese may exhibit the following characteristics to a slight degree: huffed, mold, soiled, uneven, and wet rind. There shall be no indication that mold has penetrated into the interior of the cheese | No change | N/A.
(ii) Rindless. Rindless blocks of Swiss cheese should not be less than 6½ inches nor more than 8½ inches in height | Delete | We propose to delete references to block heights in the standard. Technology improvements have made it possible to produce quality Swiss cheese in a variety of sizes; therefore, these limitations are no longer necessary.
The wrapper or covering shall adequately and securely envelop the cheese, be neat, unbroken and fully protect the surface, but may be slightly wrinkled | (ii) The wrapper or covering of rindless blocks of Swiss cheese shall adequately and securely envelop the cheese, be neat, unbroken and fully protect the surface, but may be slightly wrinkled | We propose this rewording for increased editorial clarity in the absence of the introductory sentence of the paragraph.
The cheese may exhibit the following characteristics to a slight degree: huffed, mold, uneven, and wet surface. There shall be no indication that mold has penetrated into the interior of the cheese | No change | N/A.
(5) Color: The cheese may possess to a slight degree a bleached surface | (5) Color: The cheese shall be white to light yellow in color. The cheese may possess to a slight degree a bleached surface | We propose to include additional descriptors for color to provide greater clarity to those utilizing these grade standards. These descriptors are proposed to provide consistent interpretation of the terms natural and attractive.
(c) U.S. grade C. U.S. grade C Swiss cheese shall conform to the following requirements (See Tables I, II, III, IV, and V of this section): | No change | N/A.
(1) Flavor: Shall possess a characteristic Swiss cheese flavor which is consistent with the age of the cheese | No change | N/A.
The cheese may possess the following flavors to a slight degree: barny, flat, fruity, rancid, metallic, old milk, onion, sour, weedy, whey-taint, and yeasty; and the following to a definite degree: acid, bitter, feed, and utensil | The cheese may possess the following flavors to a slight degree: barny, fruity, metallic, old milk, onion, rancid, sour, weedy, whey-taint, and yeasty; and the following to a definite degree: acid, bitter, feed, flat and utensil | We propose to place the term rancid in correct alphabetical order within the list for clarity, and place flat in the definite category as it appears in Table III.
(2) Body: Shall be uniform and may possess the following characteristics to a slight degree: coarse, pasty, and short; and to a definite degree the cheese may be weak | No change | N/A.
(3) Eyes and texture: The cheese may possess the following eye characteristics to a slight degree: afterset, cabbage, collapsed, irregular, large eyed, and small eyed, and the following to a definite degree: dead eyes, dull, frog mouth, nesty, rough, one sided, overset, shell, underset, and uneven | (3) Eyes and texture: The cheese may possess the following eye characteristics to a slight degree: afterset, cabbage, collapsed, irregular, large eyed, and small eyed, and the following to a definite degree: dead eyes, dull, frog mouth, nesty, one sided, overset, rough, shell, underset, and uneven | We propose this editorial change to place the term rough in correct alphabetical order within the list of defects.
The cheese may possess the following texture characteristics to a slight degree: gassy, splits and sweet holes; and the following to a definite degree: checks, picks and streuble | No change | N/A.
(4) Finish and appearance—(i) Rind. The rind shall be sound, providing good protection to the cheese. The cheese may exhibit the following characteristics to a slight degree: checked rind, and soft spots; and the following to a definite degree: huffed, mold, soiled, uneven, and wet rind. There shall be no indication that mold has penetrated into the interior of the cheese | No change | N/A.
(ii) Rindless. The wrapper or covering shall adequately and securely envelop the cheese, be unbroken, fully protect the surface and may be wrinkled. The cheese may exhibit a very slight soiled surface and contain soft spots to a slight degree. The cheese may possess the following characteristics to a definite degree: huffed, mold, uneven, and wet surface. There shall be no indication that mold has penetrated into the interior of the cheese | No change | N/A.
(5) Color. The cheese may possess the following color characteristics to a slight degree: acid cut, bleached, colored spots, dull or faded, mottled and pink ring; and to a definite degree bleached surface | (5) Color. The cheese may possess the following color characteristics to a slight degree: acid cut, colored spots, dull or faded, mottled and pink ring; and to a definite degree bleached surface | We propose to delete bleached from the list of slight defects. Swiss cheese color is defined as white, and bleaching of the milk used to make the cheese is allowed under the Food and Drug Administration's standard of identity for Swiss cheese.
¹ Compliance with these standards does not excuse failure to comply with the provisions of the Federal Food, Drug and Cosmetic Act.

BILLING CODE 3410-02-P

BILLING CODE 3410-02-C

United States Standards for Grades of Swiss Cheese, Emmentaler Cheese ¹
Current standard | Proposed | Discussion
U.S. Grades—Continued:
U.S. grade not assignable | No change | N/A.
Swiss cheese shall not be assigned a U.S. grade for one or more of the following reasons: | No change | N/A.
(a) Fails to meet or exceed the requirements for U.S. Grade C | No change | N/A.
(b) Fails to meet composition, minimum age, or other requirements of the Food and Drug Administration | No change | N/A.
(c) Produced in a plant found on inspection to be using unsatisfactory manufacturing practices, equipment, or facilities, or to be operating under unsanitary plant conditions | No change | N/A.
(d) Produced in a plant which has not been USDA inspected and approved | Delete | We propose this deletion because requirements contained in 7 CFR Part 58, Subpart A sufficiently address this issue.
Explanation of terms | No change | N/A.
Explanation of terms | No change | N/A.
(a) With respect to style: | No change | N/A.
(1) Rind.—Cheese which has a hard protective outer layer formed by drying the cheese surface and by the addition of salt (usually wheel shaped) | No change | N/A.
(2) Rindless.—Cheese which has been protected from rind formation and which is packaged with an impervious type of wrapper or covering enclosing the cheese (usually cube or rectangular shaped) | No change | N/A.
(3) Institutional-size packages.—Multipound, wrapped portions of cheese, generally cut from a larger piece, intended for use by restaurants, delicatessens, schools, and etc | No change | N/A.
(b) With respect to flavor: | No change | N/A.
(1) Slight.—Detected only upon critical examination | No change | N/A.
(2) Definite.—Not intense but detectable | No change | N/A.
(3) Undesirable.—Identifiable flavors in excess of the intensity permitted, or those flavors not listed | No change | N/A.
(4) Acid.—Sharp and puckery to the taste, characteristic of lactic acid | No change | N/A.
(5) Barny.—A flavor characteristic of the odor of a cow stable | No change | N/A.
(6) Bitter.—A distasteful flavor similar to the taste of quinine | No change | N/A.
(7) Feed.—Feed flavors (such as alfalfa, sweet clover, silage, or similar feed) in milk carried through into the cheese | No change | N/A.
(8) Flat.—Insipid, practically devoid of any characteristic Swiss cheese flavor | No change | N/A.
(9) Fruity.—A sweet fruit-like flavor resembling apples; generally increasing in intensity as the cheese ages | No change | N/A.
(10) Rancid.—A flavor suggestive of rancidity or butyric acid, sometimes associated with a bitterness | No change | N/A.
(11) Metallic.—A flavor having qualities suggestive of metal, imparting a puckery sensation | No change | N/A.
(12) Old Milk.—Lacks freshness | No change | N/A.
(13) Onion.—This flavor is recognized by the peculiar taste and odor suggestive of its name. Present in milk or cheese when the cows have eaten onions, garlic or leeks | No change | N/A.
(14) Sour.—An acid, pungent flavor resembling vinegar | No change | N/A.
(15) Utensil.—A flavor that is suggestive of improper or inadequate washing and sanitizing of milking machines, utensils or factory equipment | No change | N/A.
(16) Weedy.—A flavor due to the use of milk which possesses a common weedy flavor. Present in cheese when cows have eaten weedy feed or grazed on common weed-infested pastures | No change | N/A.
(17) Whey-Taint.—A slightly acid taste and odor characteristic of fermented whey, caused by too slow expulsion of whey from the curd | No change | N/A.
(18) Yeasty.—A flavor indicating yeast fermentation | No change | N/A.
(c) With respect to body: | No change | N/A.
(1) Slight.—Detected only upon critical examination. | No change | N/A.
(2) Definite.—Not intense but detectable | No change | N/A.
(3) Smooth.—Feels silky; not dry and coarse or rough | No change | N/A.
(4) Firm.—Feels solid, not soft or weak | No change | N/A.
(5) Coarse.—Feels rough, dry and sandy | No change | N/A.
(6) Pasty.—Usually weak body and when the cheese is rubbed between the thumb and fingers it becomes sticky and smeary | No change | N/A.
(7) Short.—No elasticity to the plug when rubbed between the thumb and fingers | No change | N/A.
(8) Uniform.—Not variable | No change | N/A.
(9) Weak.—Requires little pressure to crush, is soft but is not necessarily sticky like pasty cheese | No change | N/A.
(d) With respect to eyes and texture in general: | No change | N/A.
(1) Blind.—No eye formation present | No change | N/A.
(2) Set.—The number of eyes in any given area of cheese | No change | N/A.
(3) Well developed eyes.—Eyes perfectly developed, glossy or velvety, with smooth even walls, round or slightly oval in shape, and fairly uniform in distribution throughout the cheese | No change | N/A.
(e) With respect to eyes and texture as it relates to cabbage, collapsed, dead, dull, frog mouth, irregular, rough and shell: | No change | N/A.
(1) Very Slight.—Characteristic exhibited in less than 5% of the eyes | No change | N/A.
(2) Slight.—Characteristic exhibited in 5% or more but less than 10% of the eyes | No change | N/A.
(3) Definite.—Characteristic exhibited in 10% or more but less than 20% of the eyes | No change | N/A.
(4) Cabbage.—Cheese having eyes so numerous within the major part of the cheese that they crowd each other, leaving only a paper-thin layer of cheese between the eyes, causing the cheese to have a cabbage appearance and very irregular eyes | No change | N/A.
(5) Collapsed.—Eyes which have not formed properly and do not appear round or slightly oval but rather flattened and appear to have collapsed | No change | N/A.
(6) Dead.—Developed eyes that have completely lost their glossy or velvety appearance | No change | N/A.
(7) Dull.—Eyes that have lost some of their bright shiny luster | No change | N/A.
(8) Frog mouth.—Eyes which have developed into a lenticular or spindle-shaped opening | No change | N/A.
(9) Irregular.—Eyes which have not formed properly and do not appear round or slightly oval and which are not accurately described by other more descriptive terms | No change | N/A.
(10) Rough.—Eyes which do not have smooth, even walls | No change | N/A.
(11) Shell.—A rough nut shell appearance on the wall surface of the eyes | No change | N/A.
(f) With respect to eyes and texture as it relates to streuble: | No change | N/A.
(1) Very Slight.—Extends no more than ⅛ inch into the body of the cheese | No change | N/A.
(2) Slight.—Extends ⅛ inch or more but less than ¼ inch into the body of the cheese | No change | N/A.
(3) Definite.—Extends ¼ inch or more but less than ½ inch into the body of the cheese | No change | N/A.
(4) Streuble—An overabundance of small eyes just under the surface of the cheese | No change | N/A.
(g) With respect to eyes and texture as it relates to checks, picks, and splits: | No change | N/A.
(1) Very Slight.—Infrequent occurrence, not more than 1 inch from the surface | No change | N/A.
(2) Slight.—Limited occurrence, not more than 1 inch from the surface | No change | N/A.
(3) Definite.—Limited occurrence throughout cheese | No change | N/A.
(4) Checks.—Small, short cracks within the body of the cheese | No change | N/A.
(5) Picks.—Small irregular or ragged openings within the body of the cheese | No change | N/A.
(6) Splits.—Sizable cracks, usually in parallel layers and usually clean cut, found within the body of the cheese | No change | N/A.
(h) With respect to eyes and texture as it relates to large eyed and small eyed: | No change | N/A.
(1) Very Slight.—Majority of the eyes less than 11/16 and more than ½ inch | Delete | We propose removal of the very slight defect level of these characteristics. The proposed lower eye size requirement is ⅜ of an inch. Definitions of small eyed at both the very slight and slight levels are not necessary to determine product grades given this narrow margin between acceptable eyes and blind Swiss cheese.
(2) Slight.—Majority of the eyes less than inch ½ but more than 5/16 inch or more than 13/16 inch but less than 1 inch | (1) Slight.—Majority of the eyes less than ⅜ inch but more than ⅛ inch or more than 13/16 inch but less than 1 inch. | We propose these changes to place the definition of this defect level in agreement with the newly proposed eye size range.
(3) Large eyed.—Eyes in excess of 13/16 inch | (2) Large eyed.—Eyes in excess of 13/16 inch | We propose this editorial change for clarity of the standard.
(4) Small eyed.—Eyes less than 11/16 inch | (3) Small eyed.—Eyes less than 11/16 inch | We propose this editorial change for clarity of the standard.
| (4) Relatively uniform eye size.—The majority of eyes fall within a ¼ inch range | We propose to include this explanation of uniform eye size to apply to Grade A Swiss cheese. Uniformity of eye size is considered to be a measure of quality in Swiss cheese and should be recognized at this grade, particularly in light of the proposed broadening of the range of acceptable eye sizes.
(i) With respect to eyes and texture as it relates to gassy and sweet holes: | No change | N/A.
(1) Slight.—No more than 3 occurrences per any given 2 square inches | No change | N/A.
(2) Gassy.—Gas holes of various sizes which may be scattered | No change | N/A.
(3) Sweet holes.—Spherical gas holes, glossy in appearance; usually about the size of BB shot | No change | N/A.
(j) With respect to eyes and texture as it relates to nesty: | No change | N/A.
(1) Very Slight.—Occurrence limited to no more than 5% of the exposed cut area of the cheese | No change | N/A.
(2) Slight.—Occurrence more than 5% but less than 10% of the exposed cut area of the cheese | No change | N/A.
(3) Definite.—Occurrence more than 10% but less than 20% of the exposed cut area of the cheese | No change | N/A.
(4) Nesty.—An overabundance of small eyes in a localized area | No change | N/A.
(k) With respect to eyes and texture as it relates to one-sided and uneven: | No change | N/A.
(1) Slight.—Eyes evenly distributed throughout at least 90% of the total cheese area | No change | N/A.
(2) Definite.—Eyes evenly distributed throughout at least 75% but less than 90% of the total cheese area | No change | N/A.
(3) One sided.—Cheese which is reasonably developed on one side and underdeveloped on the other as to eye development | No change | N/A.
(4) Uneven.—Cheese which is reasonably developed in some areas and underdeveloped in others as to eye development | No change | N/A.
(l) With respect to eyes and texture as it relates to afterset, overset, and underset: | No change | N/A.
(1) Very slight.—Number of eyes present exceed or fall short of the ideal by limited amount | No change | N/A.
(2) Slight.—Number of eyes present exceed or fall short of the ideal by a moderate amount | No change | N/A.
(3) Afterset.—Small eyes caused by secondary fermentation | No change | N/A.
(4) Overset.—Excessive number of eyes present | No change | N/A.
(5) Underset.—Too few eyes present | No change | N/A.
(m) With respect to finish and appearance: | No change | N/A.
(1) Very slight.—Detected only upon very critical examination | No change | N/A.
(2) Slight.—Detected only upon critical examination | No change | N/A.
(3) Definite.—Not intense but detectable | No change | N/A.
(4) Checked rind.—Numerous small cracks or breaks in the rind | No change | N/A.
(5) Huffed.—The cheese becomes rounded or oval in shape instead of flat | No change | N/A.
(6) Mold on rind surface.—Mold spots or areas which have formed on the rind surface | No change | N/A.
(7) Mold under wrapper or covering.—Mold spots or area that have formed under the wrapper or on the cheese | No change | N/A.
(8) Soft spots.—Spots which are soft to the touch and usually faded and moist | No change | N/A.
(9) Soiled surface.—Milkstone, rust spots, grease, or other discoloration on the surface of the cheese | No change | N/A.
(10) Uneven.—One side of the cheese is higher than the other | No change | N/A.
(11) Wet rind.—A wet rind is one in which the moisture adheres to the surface of the rind and which may or may not soften the rind or cause discoloration | No change | N/A.
(12) Wet surface (rindless).—A wet surface is one in which the moisture appears between the wrapper and the cheese surface. | No change | N/A.
(n) With respect to color: | No change | N/A.
(1) Slight.—Detectable only upon critical examination | No change | N/A.
(2) Definite.—Not intense but detectable | No change | N/A.
(3) Acid cut.—Bleached or faded appearance which sometimes varies throughout the cheese | No change | N/A.
(4) Bleached surface.—A faded coloring beginning at the surface and extending inward a short distance | No change | N/A.
(5) Colored spots.—Brightly colored areas (pink to brick red or gray to black) of bacteria growing in readily discernible colonies randomly distributed throughout the cheese | No change | N/A.
(6) Dull or faded.—A color condition lacking in luster | No change | N/A.
(7) Mottled.—Irregular-shaped spots or blotches in which portions are light colored and others are higher colored. Also, unevenness of color due to combining two different vats, sometimes referred to as “mixed curd.” | No change | N/A.
(8) Pink ring.—A color condition which usually appears pink to brownish red and occurs as a uniform band near the cheese surface and may follow eye formation | No change | N/A.
Supplement to U.S. Standards for Grades of Swiss Cheese, Emmentaler Cheese | No change | N/A.
Alternate method for determination of U.S. grades | No change | N/A.
(a) This alternate method shall be used only when requested by the applicant. With this method, the eyes and texture and color factors are rated on the basis of trier plugs rather than by slicing the cheese. A statement shall appear on the grading certificate indicating that the alternate method was used as requested by the applicant | No change | N/A.
(b) The following quality factors shall be rated when using the alternate method for determining U.S. grades: | No change | N/A.
(1) Flavor | No change | N/A.
(2) Body | No change | N/A.
(3) Eyes and texture | No change | N/A.
(4) Finish and appearance, and | No change | N/A.
(5) Color | No change | N/A.
(c) Flavor and body ratings shall be determined by the methods prescribed in § 58.2573 (b) and (c) | (c) Flavor and body ratings shall be determined by the methods prescribed in the section titled, “Basis for determination of U.S. grades,” (b) and (c) | When U.S. grade standards were removed from the Code of Federal Regulations, it was no longer appropriate to reference particular sections of the Code. We propose to modify this sentence accordingly.
(d) Finish and appearance ratings shall be determined as prescribed in § 58.2574 | (d) Finish and appearance ratings shall be determined as prescribed in the section titled, “Specifications for U.S. grades” | When U.S. grade standards were removed from the Code of Federal Regulations, it was no longer appropriate to reference particular sections of the Code. We propose to modify this sentence accordingly.
(e) Eyes and texture, and color ratings shall be determined by drawing and examining at least two full trier plugs, withdrawn at the approximate center of one of the largest flat surface areas of the sample. For some institutional-size samples, it may not be possible to obtain a full trier plug. When this occurs, a U.S. grade may be determined from a smaller portion of a plug | No change | N/A.
(f) The final U.S. grade shall be established on the basis of the lowest rating of any one quality factor | No change | N/A.
Specifications for U.S. grades when using the alternate method | No change | N/A.
(a) U.S. grade A. U.S. grade A Swiss cheese shall conform to the following requirements (See Tables I, II, IV, and V of § 58.2574) | (a) U.S. grade A. U.S. grade A Swiss cheese shall conform to the following requirements (See Tables I, II, IV, and V of these standards) | When U.S. grade standards were removed from the Code of Federal Regulations, it was no longer appropriate to reference particular sections of the Code. We propose to modify this sentence accordingly.
(1) Eyes and texture. The cheese shall be properly set and shall possess well-developed round or slightly oval-shaped eyes which are uniformly distributed | (1) Eyes and texture. The cheese shall be properly set and shall possess well-developed round or slightly oval-shaped eyes which are relatively uniform in size and in distribution | We propose to reword this description to include a provision for uniformity of eye size.
A full plug drawn from the cheese shall be free from splits, and not appear gassy or large eyed; it may possess checks and picks within 1 inch from the surface, and may possess a limited number of checks and picks beyond 1 inch from the surface | No change | N/A.
The majority of the eyes shall be 11/16 to 13/16 inch in diameter | The majority of the eyes shall be ⅜ to 13/16 inch in diameter | We propose to increase the allowable range of eye sizes for Grade A Swiss cheese to include eyes of a smaller diameter.
The cheese shall have at least two but not more than eight eyes to a trier plug | No change | N/A.
(2) Color. Shall be natural, attractive and uniform | (2) Color. Shall be natural, attractive and uniform. The cheese shall be white to light yellow in color | We propose to include additional descriptors for color to provide greater clarity to those utilizing these grade standards. These descriptors are proposed to provide consistent interpretation of the terms natural and attractive.
(b) U.S. grade B. U.S. grade B Swiss cheese shall conform to the following requirements (See Tables I, II, IV, and V of § 58.2574) | (b) U.S. grade B. U.S. grade B Swiss cheese shall conform to the following requirements (See Tables I, II, IV, and V of these standards) | When U.S. grade standards were removed from the Code of Federal Regulations, it was no longer appropriate to reference particular sections of the Code. We propose to modify this sentence accordingly.
(1) Eyes and texture. The cheese shall possess well-developed round or slightly oval-shaped eyes. A full plug drawn from the cheese shall be free from splits, and not appear gassy or large eyed; and may be moderately overset and have a limited amount of checks and picks | No change | N/A.
The majority of the eyes shall be in the range of ½ to 13/16 inch in diameter | The majority of the eyes shall be in the range of ⅜ to 13/16 inch in diameter | We propose this change to make the existing requirement consistent with changes proposed for Grade A and Grade B under the regular grading procedures.
The cheese shall have at least one but not more than ten eyes to a trier plug | No change | N/A.
(2) Color. The cheese may possess, to a slight degree, a bleached surface | (2) Color. The cheese shall be white to light yellow in color. The cheese may possess, to a slight degree, a bleached surface | We propose to include additional descriptors for color to provide greater clarity to those utilizing these grade standards. These descriptors are proposed to provide consistent interpretation of the terms natural and attractive.
(c) U.S. grade C. U.S. grade C Swiss cheese shall conform to the following requirements (See Tables I, II, IV, and V of § 58.2574) | (c) U.S. grade C. U.S. grade C Swiss cheese shall conform to the following requirements (See Tables I, II, IV, and V of these standards) | When U.S. grade standards were removed from the Code of Federal Regulations, it was no longer appropriate to reference particular sections of the Code. We propose to modify this sentence accordingly.
(1) Eyes and texture. A full plug drawn from the cheese may be overset, shell or dead eyed; have splits, checks, picks, and gassy; and may be large eyed to a slight degree. The cheese is not totally blind or totally gassy | No change | N/A.
(2) Color. The cheese may possess the following color characteristics to a slight degree: acid cut, colored spots, dull or faded, mottled and pink ring; and, to a definite degree, a bleached surface | No change | N/A.

Authority: (7 U.S.C. 1621-1627).

Dated: July 12, 2000.
Kathleen A. Merrigan,
Administrator, Agricultural Marketing Service.

[FR Doc. 00-18074 Filed 7-19-00; 8:45 am]

BILLING CODE 3410-02-P